Proclamation 9025 of September 26, 2013

Gold Star Mother's and Family's Day, 2013

By the President of the United States of America

A Proclamation

In our city centers and our bustling parks, monuments stand dedicated to visionary leaders and singular moments in the life of our Republic. But in empty seats at family dinners and folded flags above the mantle, we find the constant thread of our Nation's character—the truth that America endures because it is home to an unbroken line of patriots willing to lay down their lives for the land they love. As we honor the men and women who gave their last full measure of devotion, we hold close the families left behind.

Most of us can only imagine the pain of a mother who loses a daughter, the husband who loses his partner, or the son who loses a father. Prepared to serve others at any cost, their loved ones exemplified the values of courage and selflessness that define our Armed Forces and fortify our Union. The families of the fallen embody that same character. Amid their sorrow, these homefront heroes support one another and lift up their communities. As our country seeks to understand the depth of their sacrifice, we draw strength and inspiration from their example.

On this day, we remember our commitment to the Gold Star mothers and families who carry on with pride and resolve despite unthinkable loss. We recall our sacred obligation to those who gave their lives so we could live ours. As a grateful Nation, we declare that we will never forget their sacrifice, and we renew our promise to build a future worthy of their devotion. We also recognize our countrymen and women who continue the fight, putting their lives on the line each day. Long after the battle is over, we will continue to give our military and Gold Star families the care and support they deserve—in a listening ear, a comforting shoulder, a helping hand, and a moment given to keep alive the memories of their Soldiers, Sailors, Airmen, Marines, and Coast Guardsmen.

The Congress, by Senate Joint Resolution 115 of June 23, 1936 (49 Stat. 1985 as amended), has designated the last Sunday in September as “Gold Star Mother's Day.”

NOW, THEREFORE, I, BARACK OBAMA, President of the United States of America, by virtue of the authority vested in me by the Constitution and the laws of the United States, do hereby proclaim September 29, 2013, as Gold Star Mother's and Family's Day. I call upon all Government officials to display the flag of the United States over Government buildings on this special day. I also encourage the American people to display the flag and hold appropriate ceremonies as a public expression of our Nation's sympathy and respect for our Gold Star Mothers and Families.

IN WITNESS WHEREOF, I have hereunto set my hand this twenty-sixth day of September, in the year of our Lord two thousand thirteen, and of the Independence of the United States of America the two hundred and thirty-eighth.

[FR Doc. 2013-24050

Filed 9-30-13; 8:45 am]

Billing code 3295-F4